COMMODITY FUTURES TRADING COMMISSION

17 CFR Parts 1, 3, 4, 15, and 166

RIN 3038-AC26

Exemption from Registration for Certain Foreign Persons

Correction

In proposed rule document 07-1522 beginning on page 15637 in the issue of Monday, April 2, 2007, make the following corrections:

1. On page 15638, in the second column, in footnote 6, in the third line, “A Wiscope” should read “Wiscope”.

2. On the same page, in the same column, in the same footnote, in the seventh line, “division” should read “decision”.

3. On the same page, in the same column, in footnote 8, in the fifth line, “45 FR 80490” should read “45 FR 80485, 80490”.

4. On the same page, in the third column, in the last paragraph, in the eleventh line, “participation” should read “participants”.

5. On page 15640, in the second column, in the sixth line from the bottom, “17 CFR Part 5” should read “17 CFR Part 15”.

[FR Doc. C7-1522 Filed 4-10-07; 8:45 am]

BILLING CODE 1505-01-D